DEPARTMENT OF COMMERCE

International Trade Administration

[A-351-806]

Silicon Metal From Brazil; Final Results of Antidumping Duty Administrative Review and Determination Not To Revoke in Part

AGENCY: Import Administration, International Trade Administration, Department of Commerce.

ACTION: Notice of final results of antidumping duty administrative review.

SUMMARY: On August 4, 2000, the Department of Commerce (the “Department”) published the preliminary results of administrative review of the antidumping duty order on silicon metal from Brazil. The merchandise covered by this order is silicon metal from Brazil. The review covers five manufacturers/exporters: Rima Industrial SA (“RIMA”), Companhia Ferroligas Minas Gerais—Minasligas (“Minasligas”), Ligas de Aluminia S.A. (“LIASA”), Companhia Carbureto de Calcio (“CBCC”), Eletrosilex S.A. (“Eletrosilex”). The period of review (“POR”) is July 1, 1998, through June 30, 1999.

Based on our analysis of the comments received, we have made changes in the margin calculations. Therefore, the final results differ from the preliminary results. The final weighted-average dumping margins for the reviewed firms are listed below in the section entitled Final Results of the Review.

EFFECTIVE DATE: February 23, 2001.

FOR FURTHER INFORMATION CONTACT: Maisha Cryor (RIMA), telephone: (202) 482-5831; Nova Daly (Eletrosilex and Minasligas), 482-0989; Mark Manning (LIASA), 482-3936, and Zev Primor (CBCC), 482-4114; AD/CVD Enforcement, Office IV, Group II, Import Administration, International Trade Administration, U.S. Department of Commerce, 14th Street and Constitution Avenue, NW., Washington, DC 20230.

SUPPLEMENTARY INFORMATION:

The Applicable Statute

Unless otherwise indicated, all citations to the Tariff Act of 1930, as amended (the “Act”), are references to the provisions effective January 1, 1995, the effective date of the amendments made to the Act by the Uruguay Round Agreements Act (“URAA”). In addition, unless otherwise indicated, all citations to the Department's regulations are to 19 CFR part 351 (2000).

Background

On August 4, 2000, the Department published the preliminary results of administrative review of the antidumping duty order on silicon metal from Brazil. See Silicon Metal From Brazil: Preliminary Results of Antidumping Duty Administrative Review and Notice of Intent Not To Revoke Order in Part, 65 FR 47960 (August 4, 2000). The review covers five manufacturers/exporters, RIMA, LIASA, CBCC, Minasligas and Eletrosilex. The POR is July 1, 1998, through June 30, 1999. We invited parties to comment on our preliminary results of review. We received comments on October 2, 2000, from RIMA, LIASA, CBCC, Eletrosilex and from American Silicon Technologies (“AST”), Elkem Metals Company (“Elkem”) and Globe Metallugical Inc. (“Globe”) (collectively “petitioners”). On October 16, 2000, we received a rebuttal brief from petitioners, RIMA, LIASA, and CBCC. We held a public hearing on October 25, 2000, to give interested parties the opportunity to express their views directly to the Department. The Department has conducted this administrative review in accordance with section 751 of the Act.

Scope of Review

The merchandise covered by this administrative review is silicon metal from Brazil containing at least 96.00 percent but less than 99.99 percent silicon by weight. Also covered by this administrative review is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule (“HTS”) as a chemical product, but is commonly referred to as a metal. Semiconductor grade silicon (silicon metal containing by weight not less than 99.99 percent silicon and provided for in subheading 2804.61.00 of the HTS) is not subject to the order. Although the HTS item numbers are provided for convenience and for U.S. Customs purposes, the written description remains dispositive.

Analysis of Comments Received

All issues raised in the case and rebuttal briefs by parties to this administrative review are addressed in the “Issues and Decision Memorandum” (“Decision Memorandum”), dated January 31, 2001, which is hereby adopted by this notice. A list of the issues which parties have raised and to which we have responded, all of which are in the Decision Memorandum, is attached to this notice as an Appendix. Parties can find a complete discussion of all issues raised in this review and the corresponding recommendations in this public memorandum which is on file in the Central Records Unit, room B-099 (“B-099”) of the main Department building. In addition, a complete version of the Decision Memorandum can be accessed directly on the Web at www.ia.ita.doc.gov. The paper copy and electronic version of the Decision Memorandum are identical in content.

Determination Not To Revoke CBCC and LIASA

LIASA

After review of the criteria outlined at sections 351.222(b) and 351.222(d) of the Department's regulations, the Department's practice, the comments of the parties, and the evidence on the record, we have determined that the requirements for revocation have not been met. For the reasons outlined in the Decision Memorandum, we have determined not to revoke the antidumping duty order with respect to subject merchandise produced and also exported by LIASA because its sales were not made in commercial quantities in accordance with 19 CFR 351.222(e). See, Memorandum Regarding “Eighth Administrative Review: Commercial Quantities,” dated July 30, 2000.

CBCC

After review of the record, the Department determines that although CBCC has had zero or de minimis dumping margins for the previous two review periods, during the current review CBCC's weight-averaged dumping margin is determined to be 0.63 percent, above the de minimis rate. A rate must be below 0.50 percent to be de minimis. See, 19 CFR 351.106(c). Consequently, CBCC has not made sales of subject merchandise “at not less than NV for a period of at least three consecutive years” as required by the Department's regulations. Because one of the requirements to qualify for revocation has not been met, the Department has not addressed the issues of commercial quantities and whether the continued application of the antidumping duty order is necessary to offset dumping with regard to CBCC. As a result of our analysis of factual information submitted to us during the course of this review, we determine not to revoke this order with respect to CBCC.

Changes Since the Preliminary Results

Based on our analysis of comments received, we have made certain changes in the margin calculations. These changes are discussed in the relevant sections of the Decision Memorandum, accessible in B-099 and on the Web at www.ia.ita.doc.gov.

Final Results of Review

We determine that the following percentage weighted-average margins exist for the period July 1, 1998, through June 30, 1999:

Manufacturer/exporter | Margin (percent)
RIMA | 0.00
MINASLIGAS | 0.00
LIASA | 0.00
CBCC | 0.63
ELETROSILEX | 93.20

The Department shall determine, and Customs shall assess, antidumping duties on all appropriate entries. In accordance with 19 CFR 351.212(b), we have calculated exporter/importer-specific assessment rates. With respect to export price, we divided the total dumping margins for the reviewed sales by the total entered value of those reviewed sales for each importer. We will direct Customs to liquidate without regard to antidumping duties any entries for which the assessment rate is de minimis, i.e., less than 0.5 percent.

Cash Deposit Requirements

The following deposit requirements will be effective upon publication of this notice of final results of administrative review for all shipments of silicon metal from Brazil entered, or withdrawn from warehouse, for consumption on or after the date of publication, as provided by section 751(a)(1) of the Act: (1) The cash deposit rate for the reviewed companies will be the rate shown above, except if the rate is less than 0.5 percent, and therefore de minimis, the cash deposit rate will be zero; (2) for previously reviewed or investigated companies not listed above, the cash deposit rate will continue to be the company-specific rate published for the most recent period; (3) if the exporter is not a firm covered in this review, a prior review, or the original less-than-fair-value (“LTFV”) investigation, but the manufacturer is, the cash deposit rate will be the rate established for the most recent period for the manufacturer of the merchandise; and (4) the cash deposit rate for all other manufacturers or exporters will continue to be 91.06 percent. This rate is the “All Others” rate from the LTFV investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i) of the Act.

Dated: January 31, 2001.
Timothy J. Hauser,
Acting Under Secretary for International Trade.

Appendix—Issues in Decision Memorandum Comments and Responses

1. Requirements for Revocation with Respect to LIASA

2. Calculation of Home Market Imputed Credit Expenses for RIMA

3. Total Adverse Facts Available (“FA”) for Eletrosilex

4. Calculation of Home Market Imputed Credit Expenses for CBCC

5. Circumstance of Sale Adjustment (“COS”) for CBCC

6. Calculation of Financial Expense Ratio for CBCC

7. CBCC's Consolidated Financial Statement

8. CBCC's Short-Term Income Offset

9. Allocation of CBCC's Indirect Labor Costs

10. Determination Not To Revoke CBCC and LIASA

[FR Doc. 01-4536 Filed 2-22-01; 8:45 am]

BILLING CODE 3510-DS-P